DEPARTMENT OF HEALTH AND HUMAN SERVICES

Health Resources and Services Administration

[OMB No. 0906-xxxx—New]

Agency Information Collection Activities: Proposed Collection: Public Comment Request; Information Collection Request Title: Enhancing Linkage of Sexually Transmitted Infection and Human Immunodeficiency Virus Surveillance Data in the Ryan White HIV/AIDS Program Evaluation

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than October 19, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Enhancing Linkage of Sexually Transmitted Infection and Human Immunodeficiency Virus Surveillance Data in the Ryan White HIV/AIDS Program Evaluation, OMB No. 0906-xxxx—New.

Abstract: HRSA's Ryan White HIV/AIDS Program (RWHAP) funds and coordinates with cities, states, and local clinics/community-based organizations to deliver efficient and effective Human Immunodeficiency Virus (HIV) care, treatment, and support to low-income people with HIV. Nearly two-thirds of clients (patients) live at or below 100 percent of the Federal poverty level and approximately three-quarters of RWHAP clients are racial and ethnic minorities. Since 1990, the RWHAP has developed a comprehensive system of HIV service providers who deliver high quality direct health care and support services to over half a million people with HIV—more than 50 percent of all people with diagnosed HIV in the United States.

HRSA is conducting a multi-year evaluation of the Enhancing Linkage of Sexually Transmitted Infection (STI) and HIV Surveillance Data in the Ryan White HIV/AIDS Program (Enhancing STI Linkage) demonstration project. The Enhancing STI Linkage demonstration project is a capacity building cooperative agreement that seeks to improve linkage, re-engagement in care, and health outcomes for people with HIV in the RWHAP. Through this demonstration project, a Technical Assistance Provider is collaborating with four RWHAP Part B jurisdictions to provide them with tailored training and technical assistance (TA) to facilitate data sharing across STI and HIV surveillance systems. A persistent barrier to addressing HIV and STI infections simultaneously and jointly is the lack of data systems linking HIV and STI surveillance data. Aside from helping to address problems around coinfection, there are substantial opportunities—particularly for the RWHAP—associated with linking HIV and STI surveillance data, including, but not limited to, identifying people with HIV currently out of care and identifying people with STIs who could be tested for HIV and promptly linked to care. This clearance request is for approval of data collection activities associated with the Enhancing STI Linkage evaluation which will occur simultaneously with the demonstration project, over a three-year project period.

Need and Proposed Use of the Information: This mixed methods evaluation will assess the achievement and effectiveness of the Enhancing STI Linkage demonstration project. HRSA will collect quantitative and qualitative data to inform the HRSA on how to enhance jurisdictions' use of STI and HIV surveillance data to improve service delivery and HIV-related health outcomes. Information gleaned from the Enhancing STI Linkage evaluation may be used to enhance and coordinate health departments' responses to HIV and STI epidemics and affect change in HIV care continuum outcomes.

Likely Respondents: Multiple respondents from four HRSA RWHAP Part B recipients, including data end-users identified by the Part B recipients within their jurisdiction.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Annualized Data Collection Burden—Years 2 and 3
Type of respondent | Form name | Number of respondents | Number responses per respondent * | Total responses | Average burden per response (in hours) | Total burden hours
Jurisdiction TA Recipient | Jurisdiction TA Recipient Semi-Structured Interview Guide | 12 | 2 | 24 | 1 | 24
Policy Stakeholder | Policy Stakeholder Semi-Structured Interview Guide | 12 | 2 | 24 | .5 | 12
Data End-User | Data End-User Survey | 105 | 2 | 210 | .17 | 36
Total |  | 129 |  | 258 |  | 72
* Note: Burden hours represent responses for both years 2 and 3; and there are 2 responses per respondent, indicating one in each year (one in year 2 and another in year 3).

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-18273 Filed 8-19-20; 8:45 am]

BILLING CODE 4165-15-P